DEPARTMENT OF DEFENSE

Department of the Navy

Notice of Availability of Record of Decision for the Final Environmental Impact Statement/Legislative Environmental Impact Statement for Renewal of the Naval Air Weapons Station China Lake Public Land Withdrawal, California

AGENCY: Department of the Navy, DoD.

ACTION: Notice.

SUMMARY: The Department of the Navy (DoN), after carefully weighing the strategic, operational, and environmental consequences of the proposed action, announces its decision to both accommodate future military operational increases and implement and complete a revised Comprehensive Land Use Management Plan (CLUMP) at Naval Air Weapons Station China Lake (NAWSCL), California as set out in Alternative 1 of the Final Environmental Impact Statement/Legislative Environmental Impact Statement (Final EIS/LEIS) for Renewal of Naval Air Weapons Station China Lake Public Land Withdrawal. Implementation of this alternative includes Congressional renewal of the public land withdrawal (25-year renewal), accommodation of an increase in Research, Development, Acquisition, Test, and Evaluation and training tempo (up to 25 percent) within current land use areas approved for designated uses, expansion of unmanned aerial and surface systems, and expansion of existing and introduction of evolving directed energy weapons development. Nonmilitary activities would continue according to current patterns of use. Proposed land use changes would be accommodated in accordance with the CLUMP and applicable NAWSCL approval processes. Natural and cultural resources would continue to be conserved with implementation of the CLUMP management process.

SUPPLEMENTARY INFORMATION: The complete text of the Record of Decision is available at http://www.chinalakeeis.com. Single copies of the Record of Decision are available upon request by contacting: Naval Facilities Engineering Command Southwest, Attn: Teresa Bresler, 1220 Pacific Highway, San Diego, CA 92132.

Dated: February 3, 2016.
N.A. Hagerty-Ford,
Commander, Judge Advocate General's Corps, U.S. Navy, Federal Register Liaison Officer.

[FR Doc. 2016-02512 Filed 2-8-16; 8:45 am]

BILLING CODE 3810-FF-P